DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before January 9, 2023.

ADDRESSES: Record Center, Pipeline and Hazardous Materials Safety Administration, U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-13, 1200 New Jersey Avenue Southeast, Washington, DC.

This notice of receipt of applications for special permit is published in accordance with part 107 of the Federal hazardous materials transportation law (49 U.S.C. 5117(b); 49 CFR 1.53(b)).

Issued in Washington, DC, on December 6, 2022.
Donald P. Burger,
Chief, General Approvals and Permits Branch.

Application No. | Applicant | Regulation(s) affected | Nature of the special permits thereof
Special Permits Data—Granted
8723-M | Dyno Nobel Inc | 173.242(c) | To modify the special permit to authorize UN Portable Tanks as authorized packagings.
11194-M | Mission Systems Orchard Park Inc | 172.203(a), 172.301(c), 173.302a(a)(1), 173.304a(a)(1), 180.205 | To modify the special permit to authorize the cylinders to be used for underwater breathing purposes.
11859-M | Mission Systems Orchard Park Inc | 173.301(f), 173.302(a)(1), 178.65(a)(2) | To modify the special permit to update the maximum service pressure and minimum test pressure.
14951-M | Hexagon Lincoln, LLC | 173.301(f), 173.302(a) | To modify the special permit to extend the compliance date for trailers to be equipped with roll stability control.
20881-M | Arkema Inc | 172.102(c)(7), 173.201(c) | To modify the special permit to authorize the transportation of the non-UN portable tanks from Arkema Inc. to customer sites and between customer sites.
20998-M | Daicel Safety Systems Americas, Inc | 173.301(a)(1), 173.302(a)(1), 178.65(c)(3) | To modify the special permit to authorize an additional airbag inflator design.
21083-N | Alliant Techsystems Operations LLC | 172.200, 172.300, 172.604, 172.400, 172.500 | To authorize the transportation in commerce of certain hazardous materials and waste materials explosives along an approximately 1.3 mile stretch of roadway between the Barton Park Shell building, Cumberland, MD, and the Alliant Techsystems Operations LLC plants 1, 2, and 3 in Rocket Center, WV without shipping papers, marking, labeling, and placarding and with alternative emergency response information.
21280-N | Crown Cork & Seal USA, Inc | 178.33a-7 | To authorize the manufacture, marking, sale, and use of non-DOT specification containers conforming with all regulations applicable to a DOT specification 2Q inner metal receptacle except for wall thickness, for the transportation in commerce of certain Division 2.1 and 2.2 aerosols.
21351-M | Bolloré Logistics Germany Gmbh | 172.101(j), 172.300, 172.400, 173.301(f)(1), 173.302a(a)(1), 173.185(a)(1) | To modify the special permit to authorize multiple heat pipes in each outer transport container.
21392-N | Airbus U.S. Space & Defense, Inc | 171.23(a)(1), 171.23(a)(3), 172.101(j), 173.301(f), 173.302a(a)(1), 173.304a(a)(2) | To authorize the transportation in commerce of certain hazardous materials in non-specification packaging (satellite).
21397-N | Strategic Edge Imports, LLC | 171.2(k), 172.200, 172.300, 172.400, 172.500, 172.700(a) | To authorize the transportation in commerce of certain DOT 3AL cylinders that contain carbon dioxide, with alternative hazard communication. Additionally, cylinders with a gauge pressure less than 200 kPa (29.0 psig/43.8 psia) at 20 °C (68 °F) are authorized to be transported as a hazardous material under the terms of this special permit.
21414-N | Zero Motorcycles Inc | 172.101(j) | To authorize the transportation in commerce of lithium batteries exceeding 35 kg by cargo-only aircraft.
21422-N | Superior Refining Company LLC | 172.200, 172.300, 172.400, 172.500, 172.600, 173.201, 173.202 | To authorize the transportation in commerce of gasoline in glass and Packing Group I petroleum distillates or petroleum products in non-specification packagings for the purpose of testing.
21425-N | Lucid USA, Inc | 172.101(j) | To authorize the transportation in commerce of lithium batteries exceeding 35 kg via cargo-only aircraft.
21465-N | IQA Metal Inc | 172.200, 172.300, 172.400, 173.185 | To authorize the transportation of lithium-ion batteries for the purposes of repackaging.
21471-N | Chinook Fire Protection, Inc | 172.101(j) | To authorize the transportation in commerce of a Division 2.2 material exceeding the quantity limitations for air.
Special Permits Data—Denied
21396-N | Porsche Cars North America, Inc | 173.185(f)(3) | To authorize the transportation in commerce of damaged, defective, and recalled lithium batteries with more than one lithium battery per outer packaging.
Special Permits Data—Withdrawn
11536-M | The Boeing Company | 172.101(c)(1), 172.101(j), 173.211, 173.302(a), 173.304(a), 173.24(g), 173.62, 173.185(a), 173.185(b), 173.202 | To modify the special permit to add Division 1.4 material and relief from UN Manual of Tests and Criteria.
21477-N | Independent Explosives, Inc | 106.10(a), 173.66(a) | This special permit authorizes the transportation in commerce of certain oxidizing materials by motor vehicle in accordance with International Makers of Explosives Safety Library Publication (IME SLP) 23 incorporated by reference.

[FR Doc. 2022-26813 Filed 12-8-22; 8:45 am]

BILLING CODE P